DEPARTMENT OF COMMERCE

National Oceanic and Atmospheric Administration

[I.D. 110102C]

North Pacific Fishery Management Council; Public Meeting

AGENCY: National Marine Fisheries Service (NMFS), National Oceanic and Atmospheric Administration (NOAA), Commerce.

ACTION: Notice of committee meeting.

SUMMARY: The North Pacific Fishery Management Council's (Council) Gulf of Alaska Working Group will meet in Anchorage, AK.

DATES: The meeting will be held on November 25-26, 2002.

ADDRESSES: The meeting will be held at the Anchorage Hilton Hotel, 500 W 3rd Avenue, Top of the World Room, Anchorage, AK 99501.

Council address: North Pacific Fishery Management Council, 605 W. 4th Ave., Suite 306, Anchorage, AK 99501-2252.

FOR FURTHER INFORMATION CONTACT: Council Staff: 907-271-2809

SUPPLEMENTARY INFORMATION: On Monday, November 25, the committee will meet starting at 10 a.m. and on Tuesday, November 26, the meeting will begin at 8 a.m. to review: data on rockfish bycatch rates; International Pacific Halibut Commission discussion paper on managing halibut bycatch in a rationalized Pacific cod hook and line fishery; proposals for catcher/processor elements and options and finalize elements and options for analysis.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Gail Bendixen, 907-271-2809, at least 5 working days prior to the meeting date.

Dated: November 5, 2002.
Theophilus R. Brainerd,
Acting Director, Office of Sustainable Fisheries, National Marine Fisheries Service.

[FR Doc. 02-28546 Filed 11-7-02; 8:45 am]

BILLING CODE 3510-22-S